ENVIRONMENTAL PROTECTION AGENCY

40 CFR Part 63

[AD-FRL-6997-9]

RIN 2060-AG91

National Emission Standards for Hazardous Air Pollutants From Oil and Natural Gas Production Facilities and National Emission Standards for Hazardous Air Pollutants From Natural Gas Transmission and Storage Facilities

AGENCY: Environmental Protection Agency (EPA).

ACTION: Final rule; technical corrections.

SUMMARY: On June 17, 1999, we issued the national emission standards for hazardous air pollutants (NESHAP) from Oil and Natural Gas Production Facilities and the national emission standards for hazardous air pollutants from Natural Gas Transmission and Storage Facilities (Oil and Gas NESHAP) (64 FR 32610). These technical corrections will clarify intent and correct errors in the Oil and Gas NESHAP. These technical corrections will not change the level of health protection the Oil and Gas NESHAP provide or the basic control requirements of the Oil and Gas NESHAP. The Oil and Gas NESHAP require new and existing major sources to control emissions of hazardous air pollutants (HAP) to the level reflecting application of the maximum achievable control technology (MACT).

Section 553 of the Administrative Procedure Act, 5 U.S.C. 553(b)(B), provides that, when an agency for good cause finds that notice and public procedure are impracticable, unnecessary, or contrary to the public interest, the agency may issue a rule without providing notice and an opportunity for public comment. We have determined that there is good cause for making these final rule corrections without prior proposal and opportunity for comment because the changes to the rule are minor technical corrections, are noncontroversial in nature, and do not substantively change the requirements of the Oil and Gas NESHAP. Thus, notice and public procedure are unnecessary. We find that this constitutes good cause under 5 U.S.C. 553(b)(5).

EFFECTIVE DATE: June 29, 2001.

ADDRESSEES: Docket No. A-94-04 contains the supporting information used in the development of this rulemaking. The docket is located at the U.S. EPA in room M-1500, Waterside Mall (ground floor), 401 M Street SW., Washington, DC 20460, and may be inspected from 8:30 a.m. to 5:30 p.m., Monday through Friday, excluding legal holidays. A reasonable fee may be charged for copying.

FOR FURTHER INFORMATION CONTACT: Mr. Greg Nizich, Waste and Chemical Processes Group, Emission Standards Division (MD-13), U.S. EPA, Research Triangle Park, North Carolina 27711, telephone number: (919) 541-3078, facsimile: (919) 541-0246, electronic mail address: nizich.greg@epa.gov.

SUPPLEMENTARY INFORMATION: Regulated entities. Entities that will potentially be affected by these corrections are those that process, upgrade, or store hydrocarbon liquids; or process, upgrade, store, or transport natural gas and are major sources of HAP as defined in section 112 of the Clean Air Act (CAA). The regulated categories and entities include:

Category | Examples of regulated entities
Industry | Condensate tank batteries, glycol dehydration units, natural gas processing plants, and natural gas transmission and storage facilities.

This table is not intended to be exhaustive, but rather provides a guide for readers regarding entities likely to be regulated by this action. This table lists the types of entities that we are now aware could potentially be regulated by this action. Other types of entities not listed in the table could also be regulated. To determine whether your facility, company, business, organization, etc., is regulated by this action, you should carefully examine the applicability criteria in §§ 63.760 and 63.1270 of the Oil and Gas NESHAP. If you have questions regarding the applicability of this action to a particular entity, consult the person listed in the preceding FOR FURTHER INFORMATION CONTACT section.

World Wide Web (WWW). The text of today's document will also be available on the WWW through the Technology Transfer Network (TTN). Following signature, a copy of this action will be posted on the TTN's policy and guidance page for newly proposed or promulgated rules.

http://www.epa.gov/ttn/oarpg. The TTN provides information and technology exchange in various areas of air pollution control. If more information regarding the TTN is needed, call the TTN HELP line at (919) 541-5384.

I. Background for the Corrections

Today's action consists of editorial, cross-referencing and clarifying corrections to the Oil and Gas NESHAP that was promulgated on June 17, 1999 (64 FR 32610). These editorial, cross-referencing and clarifying corrections are minor in nature and are noncontroversial. As an example of the editorial corrections, we have replaced the phrase “storage tank” or “tank” with “storage vessel.” We have removed the definition of relief device since it is not used in the Oil and Gas NESHAP. We have corrected a reporting requirement by replacing “operating days” with “calendar days” as it applies to the submission of Periodic Reports. Cross-referencing errors were corrected as applicable.

II. Corrections and Clarifications of Intent

Some of the corrections in today's action are being made to clarify our intent in the promulgated rule. The following paragraphs present these changes and our rationale for making the changes.

Applicability. As promulgated, subparts HH and HHH (§§ 63.760(a)(1) and 63.1270(a)) require facilities that operate at or near their design throughput to use a throughput that is higher than their design maximum to calculate potential-to-emit (PTE). This outcome was not intended and is not consistent with the General Provisions (40 CFR part 63, subpart A) in which PTE is defined to be “the maximum capacity of a stationary source to emit a pollutant under its physical and operational design.” Therefore, we have added text to §§ 63.760(a)(1) and 63.1270(a) clarifying that owners and operators still have the option of using design maximum natural gas or hydrocarbon liquid throughput to estimate maximum PTE.

Section 63.1270(a) states that a “compressor station that transports natural gas prior to the point of custody transfer, or to a natural gas processing plant (if present) is considered a part of the oil and natural gas production source category.” Our intent was to exclude a compressor station that transports natural gas prior to the point of custody transfer, or to a natural gas processing plant (if present) from the transmission and storage source category. Therefore, to clarify our intent, we have modified § 63.1270(a) to state that a “compressor station that transports natural gas prior to the point of custody transfer, or to a natural gas processing plant (if present) is not considered a part of the natural gas transmission and storage source category.”

Section 63.1270(a)(1) contains a set of five equations that an owner or operator could use in sequence to estimate maximum facility natural gas throughput. We have modified § 63.1270(a)(1) by replacing the five equations with one equation, yielding the same result.

Definitions. We have reworded the definition of custody transfer in § 63.1271 by removing the phrase “* * * from storage vessels or automatic transfer facilities, or other equipment, including product loading racks, to pipelines or any other forms of transportation.”

The definition of major source in subpart HH was confusing because it was unclear that facilities that are not production field facilities (i.e., facilities located after the point of custody transfer) are required to aggregate HAP emissions from all HAP emission units for the major source determination. This is consistent with our interpretation of the associated equipment terminology in section 112(n)(4) of the CAA (64 FR 32618). We have added a sentence to the definition of major source in § 63.761 to read: “For facilities that are not production field facilities, HAP emissions from all HAP emission units shall be aggregated for a major source determination.”

Startups, shutdowns, and malfunctions. Sections 63.762 and 63.1272 of the Oil and Gas NESHAP require owners and operators to prepare startup, shutdown and malfunction plans, but do not provide an exemption for facilities that were subject to the rule but had no requirements (e.g., a natural gas processing plant, that was a major source, that has a dehydration unit with a throughput less than 18.4 thousand standard cubic meters per day would be subject to the rule, but would have no control requirements). A startup, shutdown and malfunction plan would serve little purpose if there were no emission limit; therefore, today's action clarifies that facilities meeting the exemption criteria specified in §§ 63.764(e) and 63.1274(d) are not required to prepare a startup, shutdown and malfunction plan.

Test methods, compliance procedures, and compliance demonstrations. Sections 63.772(e)(1) and 63.1282(d)(1) provide exemptions from conducting performance tests under those sections for certain specified control devices, including flares. However, §§ 63.772(e)(2) and 63.1282(d)(2) require an owner or operator to comply with § 63.11(b), which contains testing requirements for flares. Flares are not exempt from the testing requirements in § 63.11(b), but are exempt from the performance test requirements in §§ 63.772(e) and 63.1282(d). Therefore, today's action clarifies that intent by modifying §§ 63.772(e)(1)(i) and 63.1282(d)(1)(i) to state that except as specified in paragraph (e)(2) (or paragraph (d)(2) for subpart HHH), a flare designed and operated in accordance with § 63.11(b) of the General Provisions is exempt from the performance testing requirements of the subpart(s).

Also, §§ 63.772(e)(3) and 63.1282(d)(3) state that the performance test must be subject to the schedule specified in § 63.7(a)(2), meaning that the performance test results would be due 240 days after the effective date of the rule, but §§ 63.775(d) and 63.1285(d) require the results to be submitted in the notification of compliance status report, 180 days after the effective date of the rule. To correct this inconsistency, today's action modifies §§ 63.772(e)(3) and 63.1282(d)(3) to clarify that the performance test results must be submitted with the notification of compliance status report, but does not require owners or operators to follow the schedule specified in § 63.7(a)(2) of the General Provisions.

Finally, the Oil and Gas NESHAP allow an owner or operator to use GRI-GLYCalc™ in conjunction with the Atmospheric Rich/Lean Method to determine condenser performance as an alternative to the performance test procedures (§§ 63.772(e)(5) and 63.1282(d)(5)). The results from the GRI-GLYCalc™ program (i.e., uncontrolled emissions) are the same, regardless of control device type. Therefore, today's action modifies §§ 63.772(e)(3)(iii)(B) and 63.1282(d)(3)(iii)(B) to allow owners or operators to use GRI-GLYCalc™ to determine uncontrolled emissions.

Inspection and monitoring requirements. Under §§ 63.775(d) and 63.1285(d), the owner or operator is required to submit a notification of compliance status report that contains information in § 63.775(d)(1) through (12) in addition to the information in § 63.9(h). Section 63.9(h)(2)(i)(B) of the General Provisions requires the owner or operator to submit “the results of any * * * monitoring procedures or other methods that were conducted * * *” to demonstrate compliance with the standards. Today's action modifies §§ 63.773(c)(2), 63.775(d), 63.1283(c)(2) and 63.1285(d) to clarify that the owner or operator must submit inspection results without having to refer to the General Provisions.

Similarly, §§ 63.775(e) and 63.1285(e) require the owner or operator to submit periodic inspection results in the Periodic reports. Today's action modifies §§ 63.773(c)(2) and 63.1283(c)(2) to refer the reader to the reporting requirements.

We made an error in § 63.773(d)(5) by stating that the owner or operator must comply with § 63.773(d)(5)(i) for all control devices “except for condensers.” Section § 63.773(d)(5)(i) applies to all control devices, and owners and operators that install condensers must also comply with § 63.773(d)(5)(ii). Therefore, today's action removes the phrase “* * * except for condensers* * *” from § 63.773(d)(5).

Flare monitoring devices cannot calculate a daily average or a minimum or maximum operating value because they merely indicate that the pilot flame is either on or off. Therefore, today's action adds language to §§ 63.773(d) and 63.1283(d) clarifying that flares are exempt from calculating daily averages and minimum or maximum operating values.

We were not clear in § 63.773(d)(6)(iv) in stating that data available for less than 75 percent of the operating hours constitutes an excursion. Since averaging periods for demonstrating condenser compliance with the 95 percent control requirement can be either on a daily basis or 365-day basis, not specifying the period over which the data sufficiency criteria are evaluated could cause confusion. Therefore, today's action modifies § 63.773(d)(6)(iv) to clarify that an excursion occurs when the data are available for less than 75 percent of the operating hours in a day.

Reporting requirements. Section 63.10(c)(8) of the General Provisions requires an owner or operator to report excess emissions and parameter monitoring exceedances as defined in the relevant standard. As promulgated, §§ 63.775(e)(2)(i) and 63.1285(e)(2)(i) state that excess emissions are excursions. Therefore, since times when the pilot flame is absent would be a parameter monitoring excursion, reporting of the periods when the pilot flame is absent is required under the General Provisions. Today's action lists that requirement in §§ 63.775(e)(x) and 63.1285(e)(ix).

III. Administrative Requirements

Under Executive Order 12866 (58 FR 51735, October 4, 1993), this action is not a “significant regulatory action” and is therefore not subject to review by the Office of Management and Budget (OMB). Because the EPA has made a “good cause” finding that this action is not subject to notice and comment requirements under the Administrative Procedure Act or any other statute, it is not subject to the regulatory flexibility provisions of the Regulatory Flexibility Act (5 U.S.C. 601 et seq.), or to sections 202 and 205 of the Unfunded Mandates Reform Act of 1995 (UMRA) (Pub. L. 104-4). In addition, this action does not significantly or uniquely affect small governments or impose a significant intergovernmental mandate, as described in sections 203 and 204 of the UMRA. This action also does not significantly or uniquely affect the communities of tribal governments, as specified by Executive Order 13175 (65 FR 67249, November 6, 2000). These technical corrections do not have substantial direct effects on the States, or on the relationship between the national government and the States, as specified in Executive Order 13132 (64 FR 43255, August 10, 1999). These technical corrections also are not subject to Executive Order 13045 (62 FR 19885, April 23, 1997) because they are not economically significant.

This technical correction action does not involve technical standards; thus, the requirements of section 12(d) of the National Technology Transfer and Advancement Act (NTTAA) of 1995 (15 U.S.C. 272) do not apply. These technical corrections also do not involve special consideration of environmental justice related issues as required by Executive Order 12898 (59 FR 7629, February 16, 1994). In issuing these technical corrections, EPA has taken the necessary steps to eliminate drafting errors and ambiguity, minimize potential litigation, and provide a clear legal standard for affected conduct, as required by section 3 of Executive Order 12988 (61 FR 4729, February 7, 1996). The EPA has complied with Executive Order 12630 (53 FR 8859, March 15, 1988) by examining the takings implications of these rule amendments in accordance with the “Attorney General's Supplemental Guidelines for the Evaluation of Risk and Avoidance of Unanticipated Takings” issued under the Executive Order. This technical correction does not impose an information collection burden under the provisions of the Paperwork Reduction Act of 1995 (44 U.S.C. 3501 et seq.). The EPA's compliance with these statutes and Executive Orders for the underlying rule is discussed in the June 17, 1999 Federal Register notice containing the Oil and Natural Gas Production final rule and Natural Gas Transmission and Storage final rule.

The Congressional Review Act (CRA) (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement (5 U.S.C. 808(2)). As stated previously, EPA has made such a good cause finding, including the reasons therefor, and established an effective date of June 29, 2001. The EPA will submit a report containing this rule and other required information to the U.S. Senate, the U.S. House of Representatives, and the Comptroller General of the United States prior to publication of the rule in the Federal Register. This action is not a “major rule” as defined by 5 U.S.C. 804(2).

List of Subjects for 40 CFR Part 63

Environmental protection, Administrative practice and procedure, Air pollution control, Hazardous substances, Intergovernmental relations, Reporting and recordkeeping requirements, Storage.

Dated: June 8, 2001.
Robert D. Brenner,
Acting Assistant Administrator for Air and Radiation.

For the reasons set out in the preamble, title 40, chapter I, part 63 of the Code of Federal Regulations is amended as follows:

PART 63—[AMENDED]

1. The authority citation for part 63 continues to read as follows:

Authority: 42 U.S.C. 7401, et seq.

Subpart HH-[AMENDED]

2. Section 63.760 is amended by revising paragraph (a)(1) introductory text to read as follows:

§ 63.760 Applicability and designation of affected source.

(a) * * *

(1) Facilities that are major sources of hazardous air pollutants (HAP) as defined in § 63.761. Emissions for major source determination purposes can be estimated using the maximum natural gas or hydrocarbon liquid throughput, as appropriate, calculated in paragraphs (a)(1)(i) through (iii) of this section. As an alternative to calculating the maximum natural gas or hydrocarbon liquid throughput, the owner or operator of a new or existing source may use the facility's design maximum natural gas or hydrocarbon liquid throughput to estimate the maximum potential emissions. Other means to determine the facility's major source status are allowed, provided the information is documented and recorded to the Administrator's satisfaction. A facility that is determined to be an area source, but subsequently increases its emissions or its potential to emit above the major source levels (without first obtaining and complying with other limitations that keep its potential to emit HAP below major source levels), and becomes a major source, must comply thereafter with all applicable provisions of this subpart starting on the applicable compliance date specified in paragraph (f) of this section. Nothing in this paragraph is intended to preclude a source from limiting its potential to emit through other appropriate mechanisms that may be available through the permitting authority.

* * * * *

3. Section 63.761 is amended by revising the definitions of “Control device,” “Glycol dehydration unit process vent,” and “Major source,” and by removing the definition of “Relief device” to read as follows:

§ 63.761 Definitions.

* * * * *

Control device means any equipment used for recovering or oxidizing HAP or volatile organic compound (VOC) vapors. Such equipment includes, but is not limited to, absorbers, carbon adsorbers, condensers, incinerators, flares, boilers, and process heaters. For the purposes of this subpart, if gas or vapor from regulated equipment is used, reused (i.e., injected into the flame zone of an enclosed combustion device), returned back to the process, or sold, then the recovery system used, including piping, connections, and flow inducing devices, is not considered to be a control device or closed-vent system.

* * * * *

Glycol dehydration unit process vent means the glycol dehydration unit reboiler vent and the vent from the GCG separator (flash tank), if present.

* * * * *

Major source, as used in this subpart, shall have the same meaning as in § 63.2, except that:

(1) Emissions from any oil or gas exploration or production well (with its associated equipment, as defined in this section), and emissions from any pipeline compressor station or pump station shall not be aggregated with emissions from other similar units to determine whether such emission points or stations are major sources, even when emission points are in a contiguous area or under common control;

(2) Emissions from processes, operations, or equipment that are not part of the same facility, as defined in this section, shall not be aggregated; and

(3) For facilities that are production field facilities, only HAP emissions from glycol dehydration units and storage vessels with the potential for flash emissions shall be aggregated for a major source determination. For facilities that are not production field facilities, HAP emissions from all HAP emission units shall be aggregated for a major source determination.

* * * * *

4. Section 63.762 is amended by revising paragraph (d) and by adding paragraph (e) to read as follows:

§ 63.762 Startups, shutdowns, and malfunctions.

* * * * *

(d) Except as provided in paragraph (e) of this section, the owner or operator shall prepare a startup, shutdown, and malfunction plan as required in § 63.6(e)(3), except that the plan is not required to be incorporated by reference into the source's title V permit as specified in § 63.6(e)(3)(i). Instead, the owner or operator shall keep the plan on record as required by § 63.6(e)(3)(v). The failure of the plan to adequately minimize emissions during startup, shutdown, or malfunctions does not shield an owner or operator from enforcement actions.

(e) Owners or operators are not required to prepare a startup, shutdown, and malfunction plan for any facility where all of the affected sources meet the exemption criteria specified in § 63.764(e).

5. Section 63.764 is amended by:

a. Revising paragraph (a);

b. Revising paragraph (e)(1) introductory text;

c. Revising paragraph (e)(2) introductory text; and

d. Revising paragraph (e)(2)(i).

The revisions read as follows:

§ 63.764 General standards.

(a) Table 2 of this subpart specifies the provisions of subpart A (General Provisions) of this part that apply and those that do not apply to owners and operators of affected sources subject to this subpart.

* * * * *

(e) * * *

(1) The owner or operator is exempt from the requirements of paragraph (c)(1) of this section if the criteria listed in paragraph (e)(1)(i) or (ii) of this section are met, except that the records of the determination of these criteria must be maintained as required in § 63.774(d)(1).

* * * * *

(2) The owner or operator is exempt from the requirements of paragraph (c)(3) of this section for ancillary equipment (as defined in § 63.761) and compressors at a natural gas processing plant subject to this subpart if the criteria listed in paragraph (e)(2)(i) or (ii) of this section are met, except that the records of the determination of these criteria must be maintained as required in § 63.774(d)(2).

(i) Any ancillary equipment and compressors that contain or contact a fluid (liquid or gas) must have a total VHAP concentration less than 10 percent by weight, as determined by the procedures specified in § 63.772(a); or

* * * * *

6. Section 63.765 is amended by revising paragraph (c)(3) introductory text to read as follows:

§ 63.765 Glycol dehydration unit process vent standards.

* * * * *

(c) * * *

(3) Control of HAP emissions from a GCG separator (flash tank) vent is not required if the owner or operator demonstrates, to the Administrator's satisfaction, that total emissions to the atmosphere from the glycol dehydration unit process vent are reduced by one of the levels specified in paragraph (c)(3)(i) or (ii) of this section, through the installation and operation of controls as specified in paragraph (b)(1) of this section.

* * * * *

7. Section 63.769 is amended by revising paragraph (a) introductory text and paragraph (c)(6) to read as follows:

§ 63.769 Equipment leak standards.

(a) This section applies to equipment subject to this subpart and specified in paragraphs (a)(1) and (2) of this section that is located at a natural gas processing plant and operates in VHAP service equal to or greater than 300 hours per calendar year.

* * * * *

(c) * * *

(6) Pumps in VHAP service, valves in gas/vapor and light liquid service, and pressure relief devices in gas/vapor service located within a natural gas processing plant that is located on the Alaskan North Slope are exempt from the routine monitoring requirements of 40 CFR 61.242-2(a)(1) and 61.242-7(a), and paragraphs (c)(1) through (3) of this section.

* * * * *

8. Section 63.771 is amended by revising paragraphs (b)(1) and (e)(2) to read as follows:

§ 63.771 Control equipment requirements.

* * * * *

(b) Cover requirements.

(1) The cover and all openings on the cover (e.g., access hatches, sampling ports, and gauge wells) shall be designed to form a continuous barrier over the entire surface area of the liquid in the storage vessel.

* * * * *

(e) * * *

(2) The owner or operator shall document, to the Administrator's satisfaction, the conditions for which glycol dehydration unit baseline operations shall be modified to achieve the 95.0 percent overall HAP emission reduction, either through process modifications or through a combination of process modifications and one or more control devices. If a combination of process modifications and one or more control devices are used, the owner or operator shall also establish the percent HAP reduction to be achieved by the control device to achieve an overall HAP emission reduction of 95.0 percent for the glycol dehydration unit process vent. Only modifications in glycol dehydration unit operations directly related to process changes, including but not limited to changes in glycol circulation rate or glycol-HAP absorbency, shall be allowed. Changes in the inlet gas characteristics or natural gas throughput rate shall not be considered in determining the overall HAP emission reduction due to process modifications.

* * * * *

9. Section 63.772 is amended by:

a. Revising paragraph (c)(6)(i);

b. Revising paragraph (e)(1)(i);

c. Revising paragraph (e)(3) introductory text;

d. Revising paragraph (e)(3)(iii)(B) introductory text;

e. Revising paragraph (e)(3)(iii)(B)(1);

f. Adding paragraph (e)(3)(iii)(B)(4);

g. Revising paragraph (f) introductory text;

h. Revising paragraph (g) introductory text;

i. Revising paragraph (g)(2) introductory text;

j. Revising paragraph (g)(2)(iii) introductory text; and

k. Revising paragraph (g)(3).

The revisions and addition read as follows:

§ 63.772 Test methods, compliance procedures, and compliance demonstrations.

* * * * *

(c) * * *

(6) * * *

(i) Except as provided in paragraph (c)(6)(ii) of this section, the detection instrument shall meet the performance criteria of Method 21 of 40 CFR part 60, appendix A, except the instrument response factor criteria in section 3.1.2(a) of Method 21 shall be for the average composition of the process fluid, not each individual volatile organic compound in the stream. For process streams that contain nitrogen, air, or other inerts which are not organic hazardous air pollutants or volatile organic compounds, the average stream response factor shall be calculated on an inert-free basis.

* * * * *

(e) * * *

(1) * * *

(i) Except as specified in paragraph (e)(2) of this section, a flare that is designed and operated in accordance with § 63.11(b);

* * * * *

(3) For a performance test conducted to demonstrate that a control device meets the requirements of § 63.771(d)(1) or (e)(3)(ii), the owner or operator shall use the test methods and procedures specified in paragraphs (e)(3)(i) through (iv) of this section. The performance test results shall be submitted in the Notification of Compliance Status Report as required in § 63.775(d)(1)(ii).

* * * * *

(iii) * * *

(B) The mass rate of either TOC (minus methane and ethane) or total HAP (Ei, Eo) shall be computed using the equations and procedures specified in paragraphs (e)(3)(iii)(B)(1) through (3) of this section. As an alternative, the mass rate of either TOC (minus methane and ethane) or total HAP at the inlet of the control device (Ei) may be calculated using the procedures specified in paragraph (e)(3)(iii)(B)(4) of this section.

(1) The following equations shall be used:

Where:

Cij, Coj = Concentration of sample component j of the gas stream at the inlet and outlet of the control device, respectively, dry basis, parts per million by volume.

Ei, Eo = Mass rate of TOC (minus methane and ethane) or total HAP at the inlet and outlet of the control device, respectively, dry basis, kilogram per hour.

Mij, Moj = Molecular weight of sample component j of the gas stream at the inlet and outlet of the control device, respectively, gram/gram-mole.

Qi, Qo = Flowrate of gas stream at the inlet and outlet of the control device, respectively, dry standard cubic meter per minute.

K2 = Constant, 2.494×10−⁶(parts per million) (gram-mole per standard cubic meter) (kilogram/gram) (minute/hour), where standard temperature (gram-mole per standard cubic meter) is 20 °C.

n = Number of components in sample.

* * * * *

(4) As an alternative to the procedures for calculating Ei specified in paragraph (e)(3)(iii)(B)(1) of this section, the owner or operator may use the model GRI-GLYCalc™, Version 3.0 or higher, and the procedures presented in the associated GRI-GLYCalc™ Technical Reference Manual. Inputs to the model shall be representative of actual operating conditions of the glycol dehydration unit and shall be determined using the procedures documented in the Gas Research Institute (GRI) report entitled “Atmospheric Rich/Lean Method for Determining Glycol Dehydrator Emissions” (GRI-95/0368.1). When the TOC mass rate is calculated for glycol dehydration units using the model GRI-GLYCalc™, all organic compounds (minus methane and ethane) measured by Method 18, 40 CFR part 60, appendix A, or Method 25A, 40 CFR part 60, appendix A, shall be summed. When the total HAP mass rate is calculated for glycol dehydration units using the model GRI-GLYCalc™, only HAP chemicals listed in Table 1 of this subpart shall be summed.

* * * * *

(f) Compliance demonstration for control device performance requirements. This paragraph applies to the demonstration of compliance with the control device performance requirements specified in § 63.771(d)(1)(i) and (e)(3). Compliance shall be demonstrated using the requirements in paragraphs (f)(1) through (3) of this section. As an alternative, an owner or operator that installs a condenser as the control device to achieve the requirements specified in § 63.771(d)(1)(ii) or (e)(3) may demonstrate compliance according to paragraph (g) of this section. An owner or operator may switch between compliance with paragraph (f) of this section and compliance with paragraph (g) of this section only after at least 1 year of operation in compliance with the selected approach. Notification of such a change in the compliance method shall be reported in the next Periodic Report, as required in § 63.775(e), following the change.

* * * * *

(g) Compliance demonstration with percent reduction performance requirements—condensers. This paragraph applies to the demonstration of compliance with the performance requirements specified in § 63.771(d)(1)(ii) or (e)(3) for condensers. Compliance shall be demonstrated using the procedures in paragraphs (g)(1) through (3) of this section.

* * * * *

(2) Compliance with the percent reduction requirement in § 63.771(d)(1)(ii) or (e)(3) shall be demonstrated by the procedures in paragraphs (g)(2)(i) through (iii) of this section.

* * * * *

(iii) Except as provided in paragraphs (g)(2)(iii)(A) and (B) of this section, at the end of each operating day, the owner or operator shall calculate the 365-day average HAP emission reduction from the condenser efficiencies as determined in paragraph (g)(2)(ii) of this section for the preceding 365 operating days. If the owner or operator uses a combination of process modifications and a condenser in accordance with the requirements of § 63.771(e), the 365-day average HAP emission reduction shall be calculated using the emission reduction achieved through process modifications and the condenser efficiency as determined in paragraph (g)(2)(ii) of this section, both for the previous 365 operating days.

* * * * *

(3) If the owner or operator has data for 365 days or more of operation, compliance is achieved with the emission limitation specified in § 63.771(d)(1)(ii) or (e)(3) if the average HAP emission reduction calculated in paragraph (g)(2)(iii) of this section is equal to or greater than 95.0 percent.

10. Section 63.773 is amended by:

a. Revising paragraphs (c)(2)(i)(A) and (B);

b. Revising paragraphs (c)(2)(ii)(A) through (C);

c. Revising paragraphs (c)(2)(iii)(A) and (B);

d. Revising paragraph (d)(1) introductory text;

e. Revising paragraph (d)(5) introductory text; and

f. Revising paragraph (d)(6)(iv).

The revisions read as follows:

§ 63.773 Inspection and monitoring requirements.

* * * * *

(c) * * *

(2) * * *

(i) * * *

(A) Conduct an initial inspection according to the procedures specified in § 63.772(c) to demonstrate that the closed-vent system operates with no detectable emissions. Inspection results shall be submitted with the Notification of Compliance Status Report as specified in § 63.775(d)(1) or (2).

(B) Conduct annual visual inspections for defects that could result in air emissions. Defects include, but are not limited to, visible cracks, holes, or gaps in piping; loose connections; or broken or missing caps or other closure devices. The owner or operator shall monitor a component or connection using the procedures in § 63.772(c) to demonstrate that it operates with no detectable emissions following any time the component is repaired or replaced or the connection is unsealed. Inspection results shall be submitted in the Periodic Report as specified in § 63.775(e)(2)(iii).

(ii) * * *

(A) Conduct an initial inspection according to the procedures specified in § 63.772(c) to demonstrate that the closed-vent system operates with no detectable emissions. Inspection results shall be submitted with the Notification of Compliance Status Report as specified in § 63.775(d)(1) or (2).

(B) Conduct annual inspections according to the procedures specified in § 63.772(c) to demonstrate that the components or connections operate with no detectable emissions. Inspection results shall be submitted in the Periodic Report as specified in § 63.775(e)(2)(iii).

(C) Conduct annual visual inspections for defects that could result in air emissions. Defects include, but are not limited to, visible cracks, holes, or gaps in ductwork; loose connections; or broken or missing caps or other closure devices. Inspection results shall be submitted in the Periodic Report as specified in § 63.775(e)(2)(iii).

(iii) * * *

(A) Conduct visual inspections for defects that could result in air emissions. Defects include, but are not limited to, visible cracks, holes, or gaps in the cover, or between the cover and the separator wall; broken, cracked, or otherwise damaged seals or gaskets on closure devices; and broken or missing hatches, access covers, caps, or other closure devices. In the case where the storage vessel is buried partially or entirely underground, inspection is required only for those portions of the cover that extend to or above the ground surface, and those connections that are on such portions of the cover (e.g., fill ports, access hatches, gauge wells, etc.) and can be opened to the atmosphere.

(B) The inspections specified in paragraph (c)(2)(iii)(A) of this section shall be conducted initially, following the installation of the cover. Inspection results shall be submitted with the Notification of Compliance Status Report as specified in § 63.775(d)(12). Thereafter, the owner or operator shall perform the inspection at least once every calendar year, except as provided in paragraphs (c)(5) and (6) of this section. Annual inspection results shall be submitted in the Periodic Report as specified in § 63.775(e)(2)(iii).

* * * * *

(d) * * *

(1) For each control device, except as provided for in paragraph (d)(2) of this section, the owner or operator shall install and operate a continuous parameter monitoring system in accordance with the requirements of paragraphs (d)(3) through (9) of this section. Owners or operators that install and operate a flare in accordance with § 63.771(d)(1)(iii) are exempt from the requirements of paragraphs (d)(4) and (5) of this section. The continuous monitoring system shall be designed and operated so that a determination can be made on whether the control device is achieving the applicable performance requirements of § 63.771(d) or (e)(3). The continuous parameter monitoring system shall meet the following specifications and requirements:

* * * * *

(5) For each operating parameter monitor installed in accordance with the requirements of paragraph (d)(3) of this section, the owner or operator shall comply with paragraph (d)(5)(i) of this section for all control devices, and when condensers are installed, the owner or operator shall also comply with paragraph (d)(5)(ii) of this section.

* * * * *

(6) * * *

(iv) An excursion occurs when the monitoring data are not available for at least 75 percent of the operating hours in a day.

* * * * *

11. Section 63.774 is amended by:

a. Revising paragraph (b)(4)(i);

b. Revising paragraph (b)(4)(ii)(A);

c. Revising paragraph (b)(8);

d. Revising paragraph (d)(2)(i);

e. Revising paragraph (d)(2)(ii); and

f. Revising paragraph (e)(3).

The revisions read as follows:

§ 63.774 Recordkeeping requirements.

* * * * *

(b) * * *

(4) * * *

(i) Continuous records of the equipment operating parameters specified to be monitored under § 63.773(d) or specified by the Administrator in accordance with § 63.773(d)(3)(iii). For flares, the hourly records and records of pilot flame outages specified in paragraph (e) of this section shall be maintained in place of continuous records.

(ii) * * *

(A) For flares, the records required in paragraph (e) of this section.

* * * * *

(8) For each inspection conducted in accordance with § 63.773(c) during which no leaks or defects are detected, a record that the inspection was performed, the date of the inspection, and a statement that no leaks or defects were detected.

* * * * *

(d) * * *

(2) * * *

(i) Information and data used to demonstrate that a piece of ancillary equipment or a compressor is not in VHAP service or not in wet gas service shall be recorded in a log that is kept in a readily accessible location.

(ii) Identification and location of ancillary equipment or compressors, located at a natural gas processing plant subject to this subpart, that is in VHAP service less than 300 hours per year.

(e) * * *

(3) All hourly records and other recorded periods when the pilot flame is absent.

12. Section 63.775 is amended by:

a. Revising paragraph (d) introductory text;

b. Revising paragraph (d)(1) introductory text;

c. Removing “; or” at the end of paragraph (d)(1)(i) and adding in its place “.”;

d. Adding paragraph (d)(1)(iii);

e. Revising paragraph (d)(2) introductory text;

f. Removing ”, and” at the end of paragraph (d)(2)(i) and adding in its place “.”;

g. Adding paragraph (d)(2)(iii);

h. Revising paragraph (d)(9);

i. Adding paragraph (d)(12);

j. Revising paragraph (e)(1);

k. Revising paragraph (e)(2) introductory text;

l. Revising paragraph (e)(2)(ii)(D); and

m. Adding paragraph (e)(2)(x).

The revisions and additions read as follows:

§ 63.775 Reporting requirements.

* * * * *

(d) Each owner or operator of a source subject to this subpart shall submit a Notification of Compliance Status Report as required under § 63.9(h) within 180 days after the compliance date specified in § 63.760(f). In addition to the information required under § 63.9(h), the Notification of Compliance Status Report shall include the information specified in paragraphs (d)(1) through (12) of this section. This information may be submitted in an operating permit application, in an amendment to an operating permit application, in a separate submittal, or in any combination of the three. If all of the information required under this paragraph has been submitted at any time prior to 180 days after the applicable compliance dates specified in § 63.760(f), a separate Notification of Compliance Status Report is not required. If an owner or operator submits the information specified in paragraphs (d)(1) through (12) of this section at different times, and/or different submittals, subsequent submittals may refer to previous submittals instead of duplicating and resubmitting the previously submitted information.

(1) If a closed-vent system and a control device other than a flare are used to comply with § 63.764, the owner or operator shall submit the information in paragraph (d)(1)(iii) of this section and the information in either paragraph (d)(1)(i) or (ii) of this section.

* * * * *

(iii) The results of the closed-vent system initial inspections performed according to the requirements in § 63.773(c)(2)(i) and (ii).

(2) If a closed-vent system and a flare are used to comply with § 63.764, the owner or operator shall submit performance test results including the information in paragraphs (d)(2)(i) and (ii) of this section. The owner or operator shall also submit the information in paragraph (d)(2)(iii) of this section.

* * * * *

(iii) The results of the closed-vent system initial inspections performed according to the requirements in § 63.773(c)(2)(i) and (ii).

* * * * *

(9) The owner or operator shall submit the analysis performed under § 63.760(a)(1).

* * * * *

(12) If a cover is installed to comply with § 63.764, the results of the initial inspection performed according to the requirements specified in § 63.773(c)(2)(iii).

(e) * * *

(1) An owner or operator shall submit Periodic Reports semiannually beginning 60 calendar days after the end of the applicable reporting period. The first report shall be submitted no later than 240 days after the date the Notification of Compliance Status Report is due and shall cover the 6-month period beginning on the date the Notification of Compliance Status Report is due.

(2) The owner or operator shall include the information specified in paragraphs (e)(2)(i) through (x) of this section, as applicable.

* * * * *

(D) For each excursion caused by the lack of monitoring data, as specified in § 63.773(d)(6)(iv), the report must include the date and duration of the period when the monitoring data were not collected and the reason why the data were not collected.

* * * * *

(x) For flares, the records specified in § 63.774(e)(3).

* * * * *

13. In Table 2 of subpart HH the entries “§ 63.6(h)”, “§ 63.7(a)(2)”, “§ 63.9(b)(2)” and “§ 63.10(b)(1)” are revised to read as follows:

Table 2.—To Subpart HH—Applicability of 40 CFR Part 63 General Provisions to Subpart HH
General provisions reference | Applicable to subpart HH | Explanation
* * * * * * *
§ 63.6(h) | No | Subpart HH does not contain opacity or visible emission standards.
* * * * * * *
§ 63.7(a)(2) | Yes | But the performance test results must be submitted within 180 days after the compliance date.
* * * * * * *
§ 63.9(b)(2) | Yes | Existing sources are given 1 year (rather than 120 days) to submit this notification.
* * * * * * *
§ 63.10(b)(1) | Yes | § 63.774(b)(1) requires sources to maintain the most recent 12 months of data on site and allows offsite storage for the remaining 4 years of data.

* * * * *

Subpart HHH—[AMENDED]

14. Section 63.1270 is amended by revising paragraphs (a) introductory text and (a)(1) introductory text and by removing paragraphs (a)(1)(i) through (iii) to read as follows:

§ 63.1270 Applicability and designation of affected source.

(a) This subpart applies to owners and operators of natural gas transmission and storage facilities that transport or store natural gas prior to entering the pipeline to a local distribution company or to a final end user (if there are no local HAP emissions as defined using § 63.1271). Emissions for major source determination purposes can be estimated using the maximum natural gas throughput calculated in either paragraph (a)(1) or (2) of this section and paragraphs (a)(3) and (4) of this section. As an alternative to calculating the maximum natural gas throughput, the owner or operator of a new or existing source may use the facility design maximum natural gas throughput to estimate the maximum potential emissions. Other means to determine the facility's major source status are allowed, provided the information is documented and recorded to the Administrator's satisfaction. A compressor station that transports natural gas prior to the point of custody transfer or to a natural gas processing plant (if present) is not considered a part of the natural gas transmission and storage source category. A facility that is determined to be an area source, but subsequently increases its emissions or its potential to emit above the major source levels (without first obtaining and complying with other limitations that keep its potential to emit HAP below major source levels), and becomes a major source, must comply thereafter with all applicable provisions of this subpart starting on the applicable compliance date specified in paragraph (d) of this section. Nothing in this paragraph is intended to preclude a source from limiting its potential to emit through other appropriate mechanisms that may be available through the permitting authority.

(1) Facilities that store natural gas or facilities that transport and store natural gas shall calculate maximum annual facility natural gas throughput using the following equation:

Where:

Throughput = Maximum annual facilitywide natural gas throughput in cubic meters per year.

IR max = Maximum facility injection rate in cubic meters per hour.

WR max = Maximum facility withdrawal rate in cubic meters per hour.

8,760 = Maximum hours of operation per year.

* * * * *

15. Section 63.1271 is amended by revising the definitions of “Control device,” “Custody transfer,” and “Glycol dehydration unit process vent,” and by removing the definition of “Federal Energy Regulatory Commission Cushion or FERC Cushion” to read as follows:

§ 63.1271 Definitions.

* * * * *

Control device means any equipment used for recovering or oxidizing HAP or volatile organic compound (VOC) vapors. Such equipment includes, but is not limited to, absorbers, carbon absorbers, condensers, incinerators, flares, boilers, and process heaters. For the purposes of this subpart, if gas or vapor from regulated equipment is used, reused (i.e., injected into the flame zone of an enclosed combustion device), returned back to the process, or sold, then the recovery system used, including piping, connections, and flow inducing devices, is not considered to be a control device or a closed-vent system.

Custody transfer means the transfer of natural gas after processing and/or treatment in the production operations to pipelines or any other forms of transportation.

* * * * *

Glycol dehydration unit process vent means the glycol dehydration unit reboiler vent and the vent from the GCG separator (flash tank), if present.

* * * * *

16. Section 63.1272 is amended by revising paragraph (d) and adding paragraph (e) to read as follows:

§ 63.1272 Startups, shutdowns, and malfunctions.

* * * * *

(d) Except as provided in paragraph (e) of this section, the owner or operator shall prepare a startup, shutdown, or malfunction plan as required in § 63.6(e)(3), except that the plan is not required to be incorporated by reference into the source's title V permit as specified in § 63.6(e)(3)(i). Instead, the owner or operator shall keep the plan on record as required by § 63.6(e)(3)(v). The failure of the plan to adequately minimize emissions during the startup, shutdown, or malfunction does not shield an owner or operator from enforcement actions.

(e) Owners or operators are exempt from the requirements to prepare a startup, shutdown, or malfunction plan for any facility where all of the affected sources meet the exemption criteria specified in § 63.1274(d).

17. Section 63.1274 is amended by revising paragraph (d) introductory text and paragraph (d)(1) to read as follows:

§ 63.1274 General standards.

* * * * *

(d) Exemptions. The owner or operator is exempt from the requirements of paragraph (c) of this section if the criteria listed in paragraph (d)(1) or (2) of this section are met, except that the records of the determination of these criteria must be maintained as required in § 63.1284(d).

(1) The actual annual average flow of gas to the glycol dehydration unit is less than 283.0 thousand standard cubic meters per day, as determined by the procedures specified in § 63.1282(a)(1); or

* * * * *

18. Section 63.1275 is amended by revising paragraphs (a) and (c)(3) introductory text to read as follows:

§ 63.1275 Glycol dehydration unit process vents standards.

(a) This section applies to each glycol dehydration unit subject to this subpart with an actual annual average natural gas flowrate equal to or greater than 283.0 thousand standard cubic meters per day and with actual average benzene glycol dehydration unit process vent emissions equal to or greater than 0.90 megagrams per year.

* * * * *

(c) * * *

(3) Control of HAP emissions from a GCG separator (flash tank) vent is not required if the owner or operator demonstrates, to the Administrator's satisfaction, that total emissions to the atmosphere from the glycol dehydration unit process vent are reduced by one of the levels specified in paragraph (c)(3)(i) or (ii) through the installation and operation of controls as specified in paragraph (b)(1) of this section.

* * * * *

19. Section 63.1281 is amended by revising paragraph (e)(2) to read as follows:

§ 63.1281 Control equipment requirements.

* * * * *

(e) * * *

(2) The owner or operator shall document, to the Administrator's satisfaction, the conditions for which glycol dehydration unit baseline operations shall be modified to achieve the 95.0 percent overall HAP emission reduction, either through process modifications or through a combination of process modifications and one or more control devices. If a combination of process modifications and one or more control devices are used, the owner or operator shall also establish the percent HAP reduction to be achieved by the control device to achieve an overall HAP emission reduction of 95.0 percent for the glycol dehydration unit process vent. Only modifications in glycol dehydration unit operations directly related to process changes, including but not limited to changes in glycol circulation rate or glycol-HAP absorbency, shall be allowed. Changes in the inlet gas characteristics or natural gas throughput rate shall not be considered in determining the overall HAP emission reduction due to process modifications.

* * * * *

20. Section 63.1282 is amended by:

a. Revising paragraph (a)(1)(ii);

b. Revising paragraph (b)(6)(i);

c. Revising paragraph (d)(1)(i);

d. Revising paragraph (d)(3) introductory text;

e. Revising paragraph (d)(3)(iii)(B) introductory text;

f. Revising paragraph (d)(3)(iii)(B)(1);

g. Adding paragraph (d)(3)(iii)(B)(4);

h. Revising paragraph (e) introductory text;

i. Revising paragraph (f)(2) introductory text;

j. Revising paragraph (f)(2)(iii) introductory text;

k. Revising paragraph (f)(2)(iii)(A);

l. Revising paragraph (f)(2)(iii)(B); and

m. Revising paragraph (f)(3).

The revisions and addition read as follows:

§ 63.1282 Test methods, compliance procedures, and compliance demonstrations.

(a) * * *

(1) * * *

(ii) The owner or operator shall document, to the Administrator's satisfaction, that the actual annual average natural gas flowrate to the glycol dehydration unit is less than 283.0 thousand standard cubic meters per day.

* * * * *

(b) * * *

(6)(i) Except as provided in paragraph (b)(6)(ii) of this section, the detection instrument shall meet the performance criteria of Method 21 of 40 CFR part 60, appendix A, except the instrument response factor criteria in section 3.1.2(a) of Method 21 shall be for the average composition of the process fluid not each individual volatile organic compound in the stream. For process streams that contain nitrogen, air, or other inerts which are not organic HAP or VOC, the average stream response factor shall be calculated on an inert-free basis.

* * * * *

(d) * * *

(1) * * *

(i) Except as specified in paragraph (d)(2) of this section, a flare that is designed and operated in accordance with § 63.11(b);

* * * * *

(3) For a performance test conducted to demonstrate that a control device meets the requirements of § 63.1281(d)(1) or (e)(3)(ii), the owner or operator shall use the test methods and procedures specified in paragraphs (d)(3)(i) through (iv) of this section. The performance test results shall be submitted in the Notification of Compliance Status Report as required in § 63.1285(d)(1)(ii).

* * * * *

(iii) * * *

(B) The mass rate of either TOC (minus methane and ethane) or total HAP (Ei, Eo) shall be computed using the equations and procedures specified in paragraphs (d)(3)(iii)(B)(1) through (3) of this section. As an alternative, the mass rate of either TOC (minus methane and ethane) or total HAP at the inlet of the control device (Ei) may be calculated using the procedures specified in paragraph (d)(3)(iii)(B)(4) of this section.

(1) The following equations shall be used:

Where:

Cij, Coj = Concentration of sample component j of the gas stream at the inlet and outlet of the control device, respectively, dry basis, parts per million by volume.

Ei, Eo = Mass rate of TOC (minus methane and ethane) or total HAP at the inlet and outlet of the control device, respectively, dry basis, kilogram per hour.

Mij, Moj = Molecular weight of sample component j of the gas stream at the inlet and outlet of the control device, respectively, gram/gram-mole.

Qi, Qo = Flowrate of gas stream at the inlet and outlet of the control device, respectively, dry standard cubic meter per minute.

K2 = Constant, 2.494×10⁻⁶ (parts per million)⁻¹ (gram-mole per standard cubic meter) (kilogram/gram) (minute/hour), where standard temperature is 20 °C.

n = Number of components in sample.

* * * * *

(4) As an alternative to the procedures for calculating Ei specified in paragraph (d)(3)(iii)(B)(1) of this section, the owner or operator may use the model GRI-GLYCalc™, Version 3.0 or higher, and the procedures presented in the associated GRI-GLYCalc™ Technical Reference Manual. Inputs to the model shall be representative of actual operating conditions of the glycol dehydration unit and shall be determined using the procedures documented in the Gas Research Institute (GRI) report entitled “Atmospheric Rich/Lean Method for Determining Glycol Dehydrator Emissions” (GRI-95/0368.1). When the TOC mass rate is calculated for glycol dehydration units using the model GRI-GLYCalc™, all organic compounds (minus methane and ethane) measured by Method 18, 40 CFR part 60, appendix A, or Method 25A, 40 CFR part 60, appendix A, shall be summed. When the total HAP mass rate is calculated for glycol dehydration units using the model GRI-GLYCalc™, only HAP chemicals listed in Table 1 of this subpart shall be summed.

* * * * *

(e) Compliance demonstration for control devices performance requirements. This paragraph applies to the demonstration of compliance with the control device performance requirements specified in § 63.1281(d)(1) and (e)(3)(ii). Compliance shall be demonstrated using the requirements in paragraphs (e)(1) through (3) of this section. As an alternative, an owner or operator that installs a condenser as the control device to achieve the requirements specified in § 63.1281(d)(1)(ii) or (e)(3)(ii) may demonstrate compliance according to paragraph (f) of this section. An owner or operator may switch between compliance with paragraph (e) of this section and compliance with paragraph (f) of this section only after at least 1 year of operation in compliance with the selected approach. Notification of such a change in the compliance method shall be reported in the next Periodic Report, as required in § 63.1285(e), following the change.

* * * * *

(f) * * *

(2) Compliance with the percent reduction requirement in § 63.1281(d)(1)(ii) or (e)(3) shall be demonstrated by the procedures in paragraphs (f)(2)(i) through (iii) of this section.

* * * * *

(iii) Except as provided in paragraphs (f)(2)(iii)(A), (B), and (D) of this section, at the end of each operating day the owner or operator shall calculate the 30-day average HAP emission reduction from the condenser efficiencies as determined in paragraph (f)(2)(ii) of this section for the preceding 30 operating days. If the owner or operator uses a combination of process modifications and a condenser in accordance with the requirements of § 63.1281(e), the 30-day average HAP emission reduction shall be calculated using the emission reduction achieved through process modifications and the condenser efficiency as determined in paragraph (f)(2)(ii) of this section, both for the preceding 30 operating days.

(A) After the compliance date specified in § 63.1270(d), an owner or operator of a facility that stores natural gas that has less than 30 days of data for determining the average HAP emission reduction shall calculate the cumulative average at the end of the withdrawal season, each season, until 30 days of condenser operating data are accumulated. For a facility that does not store natural gas, the owner or operator that has less than 30 days of data for determining average HAP emission reduction shall calculate the cumulative average at the end of the calendar year, each year, until 30 days of condenser operating data are accumulated.

(B) After the compliance date specified in § 63.1270(d), for an owner or operator that has less than 30 days of data for determining the average HAP emission reduction, compliance is achieved if the average HAP emission reduction calculated in paragraph (f)(2)(iii)(A) of this section is equal to or greater than 95.0 percent.

* * * * *

(3) Compliance is achieved with the emission limitation specified in § 63.1281(d)(1)(ii) or (e)(3) if the average HAP emission reduction calculated in paragraph (f)(2)(iii) of this section is equal to or greater than 95.0 percent.

21. Section 63.1283 is amended by:

a. Revising paragraphs (c)(2)(i)(A) and (B);

b. Revising paragraphs (c)(2)(ii)(A) through (C);

c. Revising paragraph (d)(1) introductory text; and

d. Revising paragraph (d)(6)(iii).

The revisions read as follows:

§ 63.1283 Inspection and monitoring requirements.

* * * * *

(c) * * *

(2) * * *

(i) * * *

(A) Conduct an initial inspection according to the procedures specified in § 63.1282(b) to demonstrate that the closed-vent system operates with no detectable emissions. Inspection results shall be submitted with the Notification of Compliance Status Report as specified in § 63.1285(d)(1) or (2).

(B) Conduct annual visual inspections for defects that could result in air emissions. Defects include, but are not limited to, visible cracks, holes, or gaps in piping; loose connections; or broken or missing caps or other closure devices. The owner or operator shall monitor a component or connection using the procedures specified in § 63.1282(b) to demonstrate that it operates with no detectable emissions following any time the component or connection is repaired or replaced or the connection is unsealed. Inspection results shall be submitted in the Periodic Report as specified in § 63.1285(e)(2)(iii).

(ii) * * *

(A) Conduct an initial inspection according to the procedures specified in § 63.1282(b) to demonstrate that the closed-vent system operates with no detectable emissions. Inspection results shall be submitted with the Notification of Compliance Status Report as specified in § 63.1285(d)(1) or (2).

(B) Conduct annual inspections according to the procedures specified in § 63.1282(b) to demonstrate that the components or connections operate with no detectable emissions. Inspection results shall be submitted in the Periodic Report as specified in § 63.1285(e)(2)(iii).

(C) Conduct annual visual inspections for defects that could result in air emissions. Defects include, but are not limited to, visible cracks, holes, or gaps in ductwork; loose connections; or broken or missing caps or other closure devices. Inspection results shall be submitted in the Periodic Report as specified in § 63.1285(e)(2)(iii).

* * * * *

(d) * * *

(1) For each control device except as provided for in paragraph (d)(2) of this section, the owner or operator shall install and operate a continuous parameter monitoring system in accordance with the requirements of paragraphs (d)(3) through (9) of this section that will allow a determination to be made whether the control device is achieving the applicable performance requirements of § 63.1281(d) or (e)(3). Owners or operators that install and operate a flare in accordance with § 63.1281(d)(1)(iii) are exempt from the requirements of paragraphs (d)(4) and (5) of this section. The continuous parameter monitoring system must meet the following specifications and requirements:

* * * * *

(6) * * *

(iii) An excursion occurs when the monitoring data are not available for at least 75 percent of the operating hours in a day.

* * * * *

22. Section 63.1284 is amended by:

a. Revising paragraph (b)(3) introductory text;

b. Revising paragraphs (b)(4)(i) and (ii);

c. Revising paragraph (b)(7)(iii); and

d. Revising paragraph (e)(3).

The revisions read as follows:

§ 63.1284 Recordkeeping requirements.

* * * * *

(b) * * *

(3) Records specified in § 63.10(c) for each monitoring system operated by the owner or operator in accordance with the requirements of § 63.1283(d). Notwithstanding the previous sentence, monitoring data recorded during periods identified in paragraphs (b)(3)(i) through (iv) of this section shall not be included in any average or percent leak rate computed under this subpart. Records shall be kept of the times and durations of all such periods and any other periods during process or control device operation when monitors are not operating.

* * * * *

(4) * * *

(i) Continuous records of the equipment operating parameters specified to be monitored under § 63.1283(d) or specified by the Administrator in accordance with § 63.1283(d)(3)(iii). For flares, the hourly records and records of pilot flame outages specified in paragraph (e) of this section shall be maintained in place of continuous records.

(ii) Records of the daily average value of each continuously monitored parameter for each operating day determined according to the procedures specified in § 63.1283(d)(4). For flares, the records required in paragraph (e) of this section.

* * * * *

(7) * * *

(iii) Maximum instrument reading measured by the method specified in § 63.1282(b) after the leak or defect is successfully repaired or determined to be nonrepairable.

* * * * *

(e) * * *

(3) All hourly records and other recorded periods when the pilot flame is absent.

23. Section 63.1285 is amended by:

a. Revising paragraph (d) introductory text;

b. Adding paragraph (d)(1)(iii);

c. Adding paragraph (d)(2)(iii);

d. Revising paragraph (e)(1);

e. Revising paragraph (e)(2) introductory text;

f. Revising paragraph (e)(2)(vii); and

g. Adding paragraph (e)(2)(ix).

The revisions and additions read as follows:

§ 63.1285 Reporting requirements.

* * * * *

(d) Each owner or operator of a source subject to this subpart shall submit a Notification of Compliance Status Report as required under § 63.9(h) within 180 days after the compliance date specified in § 63.1270(d). In addition to the information required under § 63.9(h), the Notification of Compliance Status Report shall include the information specified in paragraphs (d)(1) through (10) of this section. This information may be submitted in an operating permit application, in an amendment to an operating permit application, in a separate submittal, or in any combination of the three. If all of the information required under this paragraph have been submitted at any time prior to 180 days after the applicable compliance dates specified in § 63.1270(d), a separate Notification of Compliance Status Report is not required. If an owner or operator submits the information specified in paragraphs (d)(1) through (10) of this section at different times, and/or different submittals, subsequent submittals may refer to previous submittals instead of duplicating and resubmitting the previously submitted information.

(1) * * *

(iii) The results of the closed-vent system initial inspections performed according to the requirements in § 63.1283(c)(2)(i) and (ii).

(2) * * *

(iii) The results of the closed-vent system initial inspections performed according to the requirements in § 63.1283(c)(2)(i) and (ii).

* * * * *

(e) * * *

(1) An owner or operator shall submit Periodic Reports semiannually beginning 60 calendar days after the end of the applicable reporting period. The first report shall be submitted no later than 240 days after the date the Notification of Compliance Status Report is due and shall cover the 6-month period beginning on the date the Notification of Compliance Status Report is due.

(2) The owner or operator shall include the information specified in paragraphs (e)(2)(i) through (ix) of this section, as applicable.

* * * * *

(vii) Any change in compliance methods as specified in § 63.1282(e).

* * * * *

(ix) For flares, the records specified in § 63.1284(e).

* * * * *

24. In Table 2 of subpart HHH the entries “§ 63.6(f)(1)” through “§ 63.7(d)” are added, and “§ 63.9(b)(2)” and “§ 63.10(b)(1)” are revised to read as follows:

Table 2.—To Subpart HHH—Applicability of 40 CFR Part 63 General Provisions to Subpart HHH
General provisions reference | Applicable to subpart HHH | Explanation
* * * * * * *
§ 63.6(f)(1) | Yes |
§ 63.6(f)(2) | Yes |
§ 63.6(f)(3) | Yes |
§ 63.6(g) | Yes |
§ 63.6(h) | No | Subpart HHH does not contain opacity or visible emission standards.
§ 63.6(i)(1)-(i)(14) | Yes |
§ 63.6(i)(15) | No | Section reserved.
§ 63.6(i)(16) | Yes |
§ 63.6(j) | Yes |
§ 63.7(a)(1) | Yes |
§ 63.7(a)(2) | Yes | But the performance test results must be submitted within 180 days after the compliance date.
§ 63.7(a)(3) | Yes |
§ 63.7(b) | Yes |
§ 63.7(c) | Yes |
§ 63.7(d) | Yes |
* * * * * * *
§ 63.9(b)(2) | Yes | Existing sources are given 1 year (rather than 120 days) to submit this notification.
* * * * * * *
§ 63.10(b)(1) | Yes | Section 63.1284(b)(1) requires sources to maintain the most recent 12 months of data on site and allows offsite storage for the remaining 4 years of data.

[FR Doc. 01-16438 Filed 6-28-01; 8:45 am]

BILLING CODE 6560-50-U